SMALL BUSINESS ADMINISTRATION

Data Collection Available for Public Comments

ACTION: 60-Day notice and request for comments.

SUMMARY: The Small Business Administration (SBA) plans to seek approval, from the Office of Management and Budget (OMB) to conduct the data collection activities described below. The Paperwork Reduction Act requires federal agencies to publish a notice in the Federal Register concerning each proposed collection of information to OMB, and to allow 60 days for the public to comment in response to the notice. This notice complies with such requirements and announces the SBA's proposal to conduct a survey of small businesses and lenders who participated in the SBA's Microloan program.

DATES: Submit comments on or before November 20, 2020.

ADDRESSES: Send all comments to Shay Meinzer, Lead Program Evaluator, Office of Program Performance, Analysis, and Evaluation, Small Business Administration, 409 3rd Street, 5th Floor, Washington, DC 20416.

FOR FURTHER INFORMATION CONTACT: Shay Meinzer, Lead Program Evaluator, Office of Program Performance, Analysis, and Evaluation, Small Business Administration, shay.meinzer@sba.gov, 202-539-1429, or Curtis B. Rich, Management Analyst, 202-205-7030, curtis.rich@sba.gov.

SUPPLEMENTARY INFORMATION: This is a request for the collection of new information.

The purpose of the Microloan Program is to assist women, low income, veteran, and minority entrepreneurs, and other small businesses in need of small amounts of financial assistance. Under the Microloan Program, the SBA makes direct loans to intermediaries (lenders) that, in turn, use the proceeds to make microloans (i.e., loans of $50,000 or less) and to provide training and technical assistance to eligible borrowers in their SBA approved geographic service areas. By offering financing and assistance to these businesses, the Microloan Program aims to support job creation and retention for small businesses by providing access to financial capital unavailable through conventional channels.

The SBA is conducting an evaluation to examine how the Microloan Program activities of lending and technical assistance improve revenue, job creation, and survival for businesses that participate in the program. The evaluation also seeks to describe the population of borrowers, their business characteristics and their experiences with the program. The lender characteristics, and the training and technical assistance provided to borrowers will also be described. The results of the evaluation will be used to develop recommendations to improve the program. The recommendations will focus on improving access to financing, improving technical assistance and training, and improving other factors that promote small business growth.

The SBA proposes the use of four data collection instruments: (1) Borrower Web survey, (2) borrower semi-structured telephone interview, (3) lender web survey, (4) lender semi-structured telephone interview. The borrower survey will cover the topics of (1) training and technical assistance received; (2) program satisfaction and ratings of the program's contribution to the business growth; (3) how the Microloan program experiences compare with other programs; and (4) suggestions for the program improvements. The interviews with lenders will discuss (1) frequency and purpose of contacts with borrowers; (2) the most and the least effective types of training and technical assistance; (3) how the Microloan program experiences compare with other programs; and (4) suggestions for the program improvements.

Summary of Proposed Information Collection

Borrower Web Survey

Description of Respondents: Microloan program borrowers who received microloans 2010-2019.

Estimated Number of Respondents: 865.

Frequency of Response: Once per request.

Estimated Annual Responses: 865.

Estimated Average Minutes per Response: 20.

Estimated Annual Hour Burden: 288.

Borrower Telephone Interview

Description of Respondents: Microloan program borrowers who received microloans 2010-2019.

Estimated Number of Respondents: 24.

Frequency of Response: Once per request.

Estimated Annual Responses: 24.

Estimated Average Minutes per Response: 20.

Estimated Annual Hour Burden: 8.

Lender Web Survey

Description of Respondents: Microloan program lenders who participated in the program 2010-2019.

Estimated Number of Respondents: 150.

Frequency of Response: Once per request.

Estimated Annual Responses: 150.

Estimated Average Minutes per Response: 15.

Estimated Annual Hour Burden: 38.

Lender Telephone Interview

Description of Respondents: Microloan program lenders who participated in the program 2010-2019.

Estimated Number of Respondents: 24.

Frequency of Response: Once per request.

Estimated Annual Responses: 24.

Estimated Average Minutes per Response: 20.

Estimated Annual Hour Burden: 8.

Solicitation of Public Comments: The SBA requests comments on (a) whether the collection of information is necessary for the agency to properly perform its functions; (b) whether the burden estimates are accurate; (c) whether there are ways to minimize the burden, including through the use of automated techniques or other forms of information technology; and (d) whether there are ways to enhance the quality, utility, and clarity of the information collected. Comments submitted in response to this notice will be summarized and/or included in the request for OMB approval of this information collection; they also will become a matter of public record.

Curtis Rich,
Management Analyst.

[FR Doc. 2020-21132 Filed 9-24-20; 8:45 am]

BILLING CODE 8026-03-P